DEPARTMENT OF TRANSPORTATION

Federal Aviation Administration

14 CFR Part 71

[Docket No. FAA-2012-0411; Airspace Docket No. 12-ASO-26]

Amendment of Class E Airspace; Montgomery, AL, Correction

AGENCY: Federal Aviation Administration (FAA), DOT.

ACTION: Final rule, technical amendment, correction.

SUMMARY: This action corrects geographic coordinates that were not adjusted in the airspace description of a final rule, technical amendment published in the Federal Register on July 31, 2012, amending controlled airspace in the Montgomery, AL, area. The corrected coordinates for Maxwell AFB and Wetumpka Municipal Airport, are included in this final.

DATES: Effective date 0901 UTC, September 20, 2012. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On July 31, 2012, the FAA published a final rule, technical amendment, in the Federal Register amending the Class E airspace area for Montgomery, AL, by recognizing the name change to Prattville-Grouby Field Airport (formerly Autauga Airport) (77 FR 45238). After publication, the FAA found that the geographic coordinates of Maxwell AFB and Wetumpka Municipal Airport need to be adjusted to be in concert with the FAAs aeronautical database. This action makes the administrative adjustment that does not affect the altitude, boundaries, or operating requirements of the airspace. Therefore, notice and public procedures under 5 U.S.C. 553(b) are unnecessary.

The Class E airspace designations are published in Paragraphs 6005 of FAA order 7400.9V, dated August 9, 2011, and effective September 15, 2011, which is incorporated by reference in 14 CFR 71.1. The Class E airspace designations listed in this document will be published subsequently in the Order.

Correction to Final Rule

Accordingly, pursuant to the authority delegated to me, the geographic coordinates for Maxwell AFB and Wetumpka Municipal Airport, as listed in the airspace designation of the Class E airspace, Montgomery, AL, as published in the Federal Register of July 31, 2012, (77 FR 45238), FR Doc. 2012-18522, are corrected as follows:

§ 71.1 [Corrected]

* * * * *

ASO AL E5 Montgomery, AL [Corrected]

On page 45238, column 3, line 51, under Maxwell AFB, remove, lat. 32°22′45″N., long. 86°21′45″W, and insert lat. 32°22′59″N., long. 86°21′57″W, and on page 45238, column 3, line 55, under Wetumpka Municipal Airport, remove lat. 32°31′46″N., long. 86°19′42″W, and insert lat. 32°31′38″N., long. 86°19′52″W.

Issued in College Park, Georgia, on August 16, 2012.
Barry A. Knight,
Manager, Operations Support Group, Eastern Service Center, Air Traffic Organization.

[FR Doc. 2012-21162 Filed 8-28-12; 8:45 am]

BILLING CODE 4910-13-P